DEPARTMENT OF AGRICULTURE

Forest Service

Bridger-Teton National Forest—Big Piney Ranger District, WY; Eagle Prospect

AGENCY: Forest Service, USDA.

ACTION: Revised Notice of Intent to Prepare an Environmental Impact Statement.

SUMMARY: This notice revises an earlier Notice of Intent (NOI) to prepare an environmental impact statement (EIS) on an exploratory oil and gas drilling proposal submitted by Plains Exploration & Production Company (PXP). The Forest Service is providing this Revised Notice of Intent because the U.S. Department of the Interior Bureau of Land Management (BLM) has been designated as a cooperating agency and the BLM Wyoming State Director has been added as an additional responsible official for the ongoing EIS for the Eagle Prospect Exploratory Wells Project, Sublette County, Wyoming. The State of Wyoming also has been designated as a cooperating agency.

DATES: The Draft EIS (DEIS) is expected to be filed with the Environmental Protection Agency (EPA) and be available for public comment in March 2007 and the Final EIS (FEIS) is expected to be available in August 2007.

FOR FURTHER INFORMATION CONTACT: Greg Clark, District Ranger, at the Big Piney Ranger District at 307-276-3375.

SUPPLEMENTARY INFORMATION: This revised notice updates the original NOI, which appeared Wednesday January 11, 2006, in the Federal Register (71 FR pages 1731-1732). There will be no additional scoping on this revised NOI. The next opportunity to comment will be on the DEIS (see discussion below).

Comments on the DEIS will be requested during the 45 day comment period following the Notice of Availability (NOA), anticipated to be published in the Federal Register in March 2007. The publication date of the NOA in the Federal Register is the exclusive means for calculating the comment period for a proposed action documented in a DEIS. Those wishing to comment should not rely on dates or timeframe information provided by any other source.

Reviewers should provide the Forest Service with their comments during the review period of the DEIS. This will enable the Forest Service to analyze and respond to the comments at one time and to use information acquired in the preparation of the FEIS, thus avoiding undue delay in the decisionmaking process. Reviewers have an obligation to structure their participation in the National Environmental Policy Act process so that it is meaningful and alerts the agency to the reviewers' position and contentions. Vermont Yankee Nuclear Power Corp. v. NRDC, 435 U.S. 519, 533 (1978). Environmental objections that could have been raised at the draft stage may be waived if not raised until after completion of the FEIS. City of Angoon v. Hodel (9th Circuit, 1986) and Wisconsin Heritages, Inc. v. Harris, 490 F. Supp. 1334, 1338 (E.D. Wis. 1980). Comments on the DEIS should be specific and should address the adequacy of the Statement and the merits of the alternatives discussed (40 CFR 1503.3).

Responsible Officials

Greg Clark, District Ranger; Big Piney Ranger District; P.O. Box 218; Big Piney, Wyoming 83113.

Robert A. Bennett, State Director, BLM—Wyoming State Office 5353 Yellowstone (P.O. Box 1828), Cheyenne, Wyoming 82009.

Nature of Decision To Be Made

The decisions, which will be based on the EIS analysis, will be to make the final decisions on the Applications for Permits to Drill (APDs) and Surface Use Plans of Operation (SUPOs) submitted by PXP for the Eagle # 1-8, Eagle # 2-8, and Eagle # 3-8 wells, and to specify the access route, project design criteria, best management practices, and agency requirements that will be included as conditions of approval for these wells. The decisions made will include reasonable measures identified as being needed during the EIS analysis in addition to any prescribed in the Forest Plan for the Bridger-Teton National Forest.

Dated: February 26, 2007.
Greg W. Clark,
District Ranger, Big Piney Ranger District, Bridger-Teton National Forest.

[FR Doc. 07-987 Filed 3-2-07; 8:45am]

BILLING CODE 3410-11-M